DEPARTMENT OF TRANSPORTATION

Federal Aviation Administration

Notice of Opportunity for Public Comment on Surplus Property Release at Myrtle Beach International Airport

AGENCY: Federal Aviation Administration (FAA), DOT.

ACTION: Notice.

SUMMARY: Under the provisions of Title 49, U.S.C. Section 47 153(c), notice is being given that the FAA is considering a request from Horry County to waive the requirement that a 0.389 acre parcel of surplus property. located at the Myrtle Beach International Airport, be used for aeronautical purposes.

DATES: Comments must be received on or before June 9, 2008.

ADDRESSES: Comments on this notice may be mailed or delivered in triplicate to the FAA at the following address: Atlanta Airports District Office, Attn: Parks Preston, Program Manager, 1701 Columbia Ave., Suite 2-260, Atlanta, GA 30337-2747.

In addition, one copy of any comments submitted to the FAA must be mailed or delivered to Robert J. Kemp, Director of Airports, at the following address: Myrtle Beach International Airport, 1100 Jetport Road, Myrtle Beach, SC 29577.

FOR FURTHER INFORMATION CONTACT: Parks Preston, Program Manager, Atlanta Airports District Office, 1701 Columbia Ave., Suite 2-260, Atlanta, GA 30337-2747, (404) 305-7149. The application may be reviewed in person at this same location.

SUPPLEMENTARY INFORMATION: The FAA is reviewing a request by Horry County to release 0.389 acres of surplus property at the Myrtle Beach International Airport. The property will be purchased to allow for the realignment of Shine Avenue. The net proceeds from the sale of this property will be used for airport purposes. The proposed use of this property is compatible with airport operations.

Any person may inspect the request in person at the FAA office listed above under FOR FURTHER INFORMATION CONTACT.

In addition, any person may, upon request, inspect the request, notice, and other documents germane to the request in person at the Myrtle Beach International Airport.

Issued in Atlanta, Georgia on March 25, 2008.
Larry F. Clark,
Acting Manager, Atlanta Airports District Office, Southern Region.

[FR Doc. E8-10186 Filed 5-8-08; 8:45 am]

BILLING CODE 4910-13-M